DEPARTMENT OF DEFENSE

Office of the Secretary

[Docket ID: DoD-2009-OS-0136]

Privacy Act of 1974; System of Records

AGENCY: Defense Intelligence Agency, DoD.

ACTION: Notice to delete systems of records.

SUMMARY: The Defense Intelligence Agency is deleting a system of records notice from its existing inventory of records systems subject to the Privacy Act of 1974, (5 U.S.C. 552a), as amended.

DATES: This proposed action will be effective without further notice on October 22, 2009 unless comments are received which result in a contrary determination.

ADDRESSES: DIA Privacy Act Coordinator, Records Management Section, 200 McDill Blvd., Washington, DC 20340.

FOR FURTHER INFORMATION CONTACT: Ms. Theresa Lowery at (202) 231-1193.

SUPPLEMENTARY INFORMATION: The Defense Intelligence Agency systems of records notices subject to the Privacy Act of 1974, (5 U.S.C. 552a), as amended, have been published in the Federal Register and are available from the address above.

The Defense Intelligence Agency is proposing to delete a system of records notice from its existing inventory of records systems subject to the Privacy Act of 1974, (5 U.S.C. 552a), as amended. This proposed deletion is not within the purview of subsection (r) of the Privacy Act of 1974, (5 U.S.C. 552a), as amended, which requires the submission of a new or altered system report.

Dated: September 15, 2009.
Patricia L. Toppings,
OSD Federal Register Liaison Officer, Department of Defense.

LDIA 0008

SYSTEM NAME:

Vehicle Registration Information (June 5, 1993, 71 FR 32320).

REASON:

The records contained in this system are maintained in F031 AF SP K Vehicle Administrative Records. DIA is a tenant organization on Bolling Air Force Base. DoD decals are maintained by the Chief of Security Police on Bolling and subsequently issued to agency for distribution.

[FR Doc. E9-22795 Filed 9-21-09; 8:45 am]

BILLING CODE 5001-06-P